DEPARTMENT OF ENERGY

Federal Energy Regulatory Commission

Combined Notice of Filings #2

July 25, 2005.

Take notice that the Commission received the following electric rate filings.

Docket Numbers: ER03-256-006; ER05-1227-000.

Applicants: TXU Pedricktown Cogeneration Company LP.

Description: Pedricktown Cogeneration Company LP (successor in interest to TXU Pedricktown Cogeneration Company LP) submits a notice of cancellation of TXU Pedricktown Cogeneration Company LP's market-based rate tariff, Second Revised Electric Rate Schedule No. 1 and a withdrawal of the triennial updated market analysis filed on 3/8/05 in Docket No. ER03-256-004.

Filed Date: 07/19/2005.

Accession Number: 20050721-0190.

Comment Date: 5 p.m. eastern time on Tuesday, August 09, 2005.

Docket Numbers: ER05-1225-000.

Applicants: New York Industrial Energy Buyers, LLC.

Description: New York Industrial Buyers, LLC submits a petition for acceptance of initial rate schedule, waivers and blanket authority.

Filed Date: 07/19/2005.

Accession Number: 20050721-0187.

Comment Date: 5 p.m. eastern time on Tuesday, August 09, 2005.

Docket Numbers: ER05-1226-000.

Applicants: New York Commercial Energy Buyers, LLC.

Description: New York Commercial Energy Buyers, LLC submits a petition for acceptance of initial rate schedule, waivers and blanket authority.

Filed Date: 07/20/2005.

Accession Number: 20050721-0189.

Comment Date: 5 p.m. eastern time on Wednesday, August 10, 2005.

Docket Numbers: ER05-375-003; ER02-1582-004; ER02-2102-005; ER00-2885-006 and ER01-2765-005.

Applicants: Arroyo Energy LP; Mohawk River Funding IV, L.L.C.; Utility Contract Funding, L.L.C.; Cedar Brakes I, L.L.C.; Cedar Brakes II, L.L.C.

Description: Arroyo Energy LP , Mohawk River Funding IV, L.L.C., Utility Contract Funding, L.L.C., Cedar Brakes I, L.L.C., and Cedar Brakes II, L.L.C. submit a revision to the triennial market power study filed on 7/14/05.

Filed Date: 07/20/2005

Accession Number: 20050721-0148

Comment Date: 5:00 pm Eastern Time on Wednesday, August 10, 2005.

Docket Numbers: ER05-870-001

Applicants: ISO New England Inc. and the New England Power Pool

Description: ISO New England Inc. and the New England Power Pool Participants Committee provide responses to the questions posed in the deficiency letter issued on 6/20/05 regarding their 4/26/05 joint filing in Docket No. ER05-870-000.

Filed Date: 07/20/2005.

Accession Number: 20050722-0281.

Comment Date: 5 p.m. eastern time on Wednesday, August 10, 2005.

Docket Numbers: ER96-110-015.

Applicants: Duke Power, Division of Duke Energy Corporation.

Description: Duke Power, a Division of Duke Energy Corporation informs the Commission of a change in status concerning its market-base authority pursuant to Order 652.

Filed Date: 07/19/2005.

Accession Number: 20050721-0184.

Comment Date: 5 p.m. eastern time on Tuesday, August 09, 2005.

Docket Numbers: ER96-2241-016.

Applicants: Thicksten Grimm Burgum Inc.

Description: Thicksten Grimm Burgum, Inc. submits an updated market power analysis in compliance with the order issued 5/31/05, 111 FERC ¶ 61,295.

Filed Date: 07/20/2005.

Accession Number: 20050722-0280.

Comment Date: 5 p.m. eastern time on Wednesday, August 10, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Linda Mitry,
Deputy Secretary.

[FR Doc. E5-4085 Filed 7-29-05; 8:45 am]

BILLING CODE 6717-01-P